FEDERAL RESERVE SYSTEM

Notice of Proposals To Engage in or To Acquire Companies Engaged in Permissible Nonbanking Activities

The companies listed in this notice have given notice under section 4 of the Bank Holding Company Act (12 U.S.C. 1843) (BHC Act) and Regulation Y, (12 CFR part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act.

Unless otherwise noted, comments regarding the applications must be received at the Reserve Bank indicated or the offices of the Board of Governors, Ann E. Misback, Secretary of the Board, 20th Street and Constitution Avenue NW, Washington, DC 20551-0001, not later than January 20, 2020.

A. Federal Reserve Bank of Philadelphia (William Spaniel, Senior Vice President) 100 North 6th Street, Philadelphia, Pennsylvania 19105-1521. Comments can also be sent electronically to Comments.applications@phil.frb.org:

1. The Toronto-Dominion Bank, Toronto, Ontario, Canada, and TD Group US Holdings, LLC, Wilmington, Delaware; to acquire equity securities of The Charles Schwab Corporation, San Francisco, California, and thereby indirectly acquire equity securities of its subsidiary savings associations, Charles Schwab Bank, Charles Schwab Premier Bank, and Charles Schwab Trust Bank, all of Henderson, Nevada, pursuant to section 4(c)(8) of the BHC Act.

Board of Governors of the Federal Reserve System, December 26, 2019.
Ann Misback,
Secretary of the Board.

[FR Doc. 2019-28280 Filed 12-31-19; 8:45 am]

BILLING CODE P